DEPARTMENT OF HEALTH AND HUMAN SERVICES

Request for Nominations to the Advisory Council on Alzheimer's Research, Care, and Services

AGENCY: Office of the Assistant Secretary for Planning and Evaluation, Department of Health and Human Services.

ACTION: Notice.

SUMMARY: The Secretary of HHS established the Advisory Council on Alzheimer's Research, Care, and Services to provide advice and consultation to the Secretary on how to prevent or reduce the burden of Alzheimer's disease and related dementias on people with the disease and their caregivers. The Secretary signed the charter establishing the Advisory Council on May 23, 2011. HHS is soliciting nominations for seven (7) new non-federal members of the Advisory Council to replace the seven (7) members whose terms will end September 30, 2021. Nominations should include, at a minimum, the nominee's contact information (current mailing address, email address, and telephone number) and current curriculum vitae or resume.

DATES: Submit nominations by email or USPS mail before COB on May 31, 2021.

ADDRESSES: Nominations should be sent by email to: Helen Lamont, Ph.D., HHS Office of the Assistant Secretary for Planning and Evaluation, Room 424E, Humphrey Building, 200 Independence Avenue SW, Washington, DC 20201, helen.lamont@hhs.gov and napa@hhs.gov.

FOR FURTHER INFORMATION CONTACT: Helen Lamont (202) 260-6075, helen.lamont@hhs.gov.

SUPPLEMENTARY INFORMATION: The Advisory Council on Alzheimer's Research, Care, and Services meets quarterly to discuss programs that impact people with Alzheimer's disease and related dementias and their caregivers. The Advisory Council makes recommendations to Congress and the Secretary of Health and Human Services about ways to reduce the financial impact of Alzheimer's disease and related dementias and to improve the health outcomes of people with these conditions. The Advisory Council also provides feedback on a National Plan to Address Alzheimer's disease. On an annual basis, the Advisory Council evaluates the implementation of the recommendations through an updated National Plan. The National Alzheimer's Project Act, Public Law 111-375 (42 U.S.C. 11225), requires that the Secretary of Health and Human Services (HHS) establish the Advisory Council on Alzheimer's Research, Care, and Services. The Advisory Council is governed by provisions of Public Law 92-463 (5 U.S.C. Appendix 2), which sets forth standards for the formation and use of advisory committees.

The Advisory Council consists of 22 members. Ten members are designees from Federal agencies including the Centers for Disease Control and Prevention, Administration for Community Living, Centers for Medicare and Medicaid Services, Indian Health Service, National Institutes of Health, National Science Foundation, Department of Veterans Affairs, Food and Drug Administration, Agency for Healthcare Research and Quality, and the Health Resources and Services Administration. The Advisory Council also consists of 12 non-federal members selected by the Secretary who represent 6 categories of people impacted by dementia: dementia caregivers (2), health care providers (2), representatives of State health departments (2), researchers with dementia-related expertise in basic, translational, clinical, or drug development science (2), voluntary health association representatives (2), and dementia patient advocates, including an advocate who is currently living with dementia (2). At this time, the Secretary shall appoint one caregiver, one healthcare provider, one representative of a State health department, one researcher, one voluntary health association representative, one dementia patient advocate, and one advocate who is a person living with dementia. These new members will replace the seven members whose terms will end on September 30, 2021. After receiving nominations, the Secretary, with input from his staff, will make the final decision, and the new members will be announced soon after. Members shall be invited to serve 4-year terms. The member living with dementia will serve a 2-year term. A member may serve after the expiration of the member's term until a successor has taken office. Members will serve as Special Government Employees.

Dated: April 30, 2021.
Rebecca Haffajee,
Acting Assistant Secretary for Planning and Evaluation.

[FR Doc. 2021-09363 Filed 5-3-21; 8:45 am]

BILLING CODE 4150-05-P